DEPARTMENT OF LABOR

Agency Information Collection Activities; Comment Request; Application for Use of Public Space by Non-DOL Agencies in the Frances Perkins Building

ACTION: Notice.

SUMMARY: The Department of Labor (DOL) is soliciting comments concerning a proposed extension for the authority to conduct the information collection request (ICR) titled, “Application for Use of Public Space by Non-DOL Agencies in the Frances Perkins Building.” This comment request is part of continuing Departmental efforts to reduce paperwork and respondent burden in accordance with the Paperwork Reduction Act of 1995 (PRA).

DATES: Consideration will be given to all written comments received by August 17, 2020.

ADDRESSES: Electronic submission: You may submit comments and attachments electronically at http://www.regulations.gov. Follow the online instructions for submitting comments.

A copy of this ICR with applicable supporting documentation; including a description of the likely respondents, proposed frequency of response, and estimated total burden may be obtained free by contacting Crystal Rennie by telephone at (202) 693-0456, (this is not a toll-free number) or by email at DOL_PRA_PUBLIC@dol.gov.

Submit written comments about, or requests for a copy of, this ICR by mail or courier to the U.S. Department of Labor, Office of the Assistant Secretary for Administration and Management, Room N1301, 200 Constitution Avenue NW, Washington, DC 20210; by email: DOL_PRA_PUBLIC@dol.gov.

FOR FURTHER INFORMATION CONTACT: Crystal Rennie by telephone at (202) 693-0456, (this is not a toll-free number) or by email at DOL_PRA_PUBLIC@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The U.S. Department of Labor (DOL) headquarters building, the Frances Perkins Building has conference and meeting capabilities located in its public space areas that entities outside of the Department may request to use. Use of public space in Federal buildings is governed by Section 581(h) of Title 40 of the United States Code (40 U.S.C. Section 581(h)). DOL has authority to issue occasional use permits to organizations engaging in “cultural,” “educational,” or “recreational” activities (permits are not available for “commercial” purposes.) FMR 102-74, Subpart D—Occasional Use of Public Buildings establishes rules and regulations for the occasional use of public areas of public buildings for cultural, educational and recreational activities as provided by 40 U.S.C. 581(h)(2). The public space use application in this Federal Register notice is designed to obtain information from entities outside DOL to help DOL comply with the Federal and Departmental rules and regulations.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid OMB Control Number. See 5 CFR 1320.5(a) and 1320.6.

Interested parties are encouraged to provide comments to the contact shown in the ADDRESSES section. Written comments will receive consideration, and summarized and included in the request for OMB approval of the final ICR. In order to help ensure appropriate consideration, comments should mention 1225-0087.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Type of Review: Extension.

Title of Collection: Application for Use of Public Space by Non-DOL Agencies in the Frances Perkins Building.

Form: Application for Use of Public Space by Non-DOL Agencies in the Frances Perkins Building (Form DL1-6062B).

OMB Control Number: 1225-0087.

Affected Public: Private Sector—not-for-profit institutions.

Estimated Number of Respondents: 10.

Frequency: Annually.

Total Estimated Annual Responses: 10.

Estimated Average Time per Response: 5 minutes.

Estimated Total Annual Burden Hours: 1 hour.

Total Estimated Annual Other Cost Burden: $0.

Authority: 44 U.S.C. 3506(c)(2)(A).

Crystal R. Rennie,
Acting Departmental Clearance Officer.

[FR Doc. 2020-13056 Filed 6-16-20; 8:45 am]

BILLING CODE 4510-23-P